DEPARTMENT OF JUSTICE

Antitrust Division

Notice Pursuant to the National Cooperative Research and Reproduction Act of 1993—Rotorcraft Technology Association, Inc. (“RITA”)

Notice is hereby given that, on November 24, 1999, pursuant to section 6(a) of the National Cooperative Research and Production Act of 1993, 15 U.S.C. 4301 et seq. (“the Act”), Rotorcraft Technology Association, Inc. (“RITA”) has filed written notifications simultaneously with the Attorney General and the Federal Trade Commission disclosing changes in its membership status. The notifications were filed for the purpose of extending the Act's provisions limiting the recovery of antitrust plaintiffs to actual damages under specified circumstances. Specifically, Arizona State University, Tempe, AZ; Ohio Aerospace Institute, Cleveland, OH; University of California, Los Angeles, CA; University of Texas at Arlington, Arlington, TX; and West Virginia University, Morgantown, WV have been added as parties to this venture.

No other changes have been made in either the membership or planned activity of the group research project. Membership in this group research project remains open, and Rotorcraft Technology Association, Inc. (“RITA”) intends to file additional written notification disclosing all changes in membership.

On September 28, 1995, Rotorcraft Technology Association, Inc. (“RITA”) filed its original notification pursuant to section 6(a) of the Act. The Department of Justice published a notice in the Federal Register pursuant to section 6(b) of the Act on April 3, 1996 (61 FR 14817).

The last notification was filed with the Department on January 7, 1999. A notice was published in the Federal Register pursuant to section 6(b) of the Act on March 19, 1999 (64 FR 13605).

Constance K. Robinson,
Director of Operations, Antitrust Division.

[FR Doc. 00-12041 Filed 5-11-00; 8:45 am]

BILLING CODE 4410-11-M